DEPARTMENT OF ENERGY

Federal Energy Regulatory Commission

Combined Notice of Filings #1

Take notice that the Commission received the following electric rate filings:

Docket Numbers: ER10-2126-007; ER10-2126-006; EL23-9-000.

Applicants: Idaho Power Company, Idaho Power Company.

Description: Supplement to March 7, 2023, Idaho Power Company to Notice of Change in Status and Response to Letter Requesting Additional Information, et al.

Filed Date: 6/15/23.

Accession Number: 20230615-5178.

Comment Date: 5 p.m. ET 7/6/23.

Docket Numbers: ER18-2358-007.

Applicants: GridLiance High Plains LLC, Southwest Power Pool, Inc.

Description: Compliance filing: Southwest Power Pool, Inc. submits tariff filing per 35: GridLiance—Compliance Filing in Response to Order issued in ER18-2358 to be effective 11/1/2018.

Filed Date: 6/23/23.

Accession Number: 20230623-5055.

Comment Date: 5 p.m. ET 7/14/23.

Docket Numbers: ER23-1765-001.

Applicants: Duke Energy Florida, LLC.

Description: Tariff Amendment: DEF-CFOTD Amended NITSA SA 147 to be effective 4/1/2023.

Filed Date: 6/23/23.

Accession Number: 20230623-5128.

Comment Date: 5 p.m. ET 7/14/23.

Docket Numbers: ER23-1814-001.

Applicants: Public Service Company of Colorado.

Description: Tariff Amendment: 2023-06-23-CSU SISA-744-Errata Filing to be effective 7/1/2023.

Filed Date: 6/23/23.

Accession Number: 20230623-5086.

Comment Date: 5 p.m. ET 7/14/23.

Docket Numbers: ER23-1854-001.

Applicants: Public Service Company of Colorado.

Description: Tariff Amendment: 2023-06-23-GrndVly-Ute Hydro-DWA-734-Errata Filing to be effective 6/1/2023.

Filed Date: 6/23/23.

Accession Number: 20230623-5081.

Comment Date: 5 p.m. ET 7/14/23.

Docket Numbers: ER23-1856-001.

Applicants: Arizona Public Service Company.

Description: Tariff Amendment: Rate Schedule No. 217, Exhibit B Administrative Filing, Amendment No. 1 to be effective 11/15/2010.

Filed Date: 6/23/23.

Accession Number: 20230623-5143.

Comment Date: 5 p.m. ET 7/14/23.

Docket Numbers: ER23-2217-000.

Applicants: AEP Texas Inc.

Description: § 205(d) Rate Filing: AEPTX-AP Sunray 2nd A&R System Upgrade Agreement to be effective 6/1/2023.

Filed Date: 6/23/23.

Accession Number: 20230623-5036.

Comment Date: 5 p.m. ET 7/14/23.

Docket Numbers: ER23-2218-000.

Applicants: PJM Interconnection, L.L.C.

Description: § 205(d) Rate Filing: Amendment to ISA and ICSA, SA Nos. 6606 and 6607; Queue No. AD1-022 to be effective 9/2/2023.

Filed Date: 6/23/23.

Accession Number: 20230623-5047.

Comment Date: 5 p.m. ET 7/14/23.

Docket Numbers: ER23-2219-000.

Applicants: Kentucky Utilities Company.

Description: § 205(d) Rate Filing: Revisions to Wholesale Requirements Contracts for Bardstown and Nicholasville to be effective 7/1/2023.

Filed Date: 6/23/23.

Accession Number: 20230623-5054.

Comment Date: 5 p.m. ET 7/14/23.

Docket Numbers: ER23-2220-000.

Applicants: Midcontinent Independent System Operator, Inc.

Description: § 205(d) Rate Filing: 2023-06-23_SA 4094 NIPSCO-Valpo Solar GIA (J1332) to be effective 8/23/2023.

Filed Date: 6/23/23.

Accession Number: 20230623-5067.

Comment Date: 5 p.m. ET 7/14/23.

Docket Numbers: ER23-2221-000.

Applicants: Big Savage, LLC.

Description: § 205(d) Rate Filing: Normal filing 2023 name change to be effective 6/24/2023.

Filed Date: 6/23/23.

Accession Number: 20230623-5073.

Comment Date: 5 p.m. ET 7/14/23.

Docket Numbers: ER23-2222-000.

Applicants: Southwest Power Pool, Inc.

Description: § 205(d) Rate Filing: 2881R16 City of Chanute, KS NITSA NOA to be effective 9/1/2023.

Filed Date: 6/23/23.

Accession Number: 20230623-5084.

Comment Date: 5 p.m. ET 7/14/23.

Docket Numbers: ER23-2223-000.

Applicants: San Diego Gas & Electric Company.

Description: § 205(d) Rate Filing: Arizona Transmission System Participation Agreement to be effective 7/18/2023.

Filed Date: 6/23/23.

Accession Number: 20230623-5088.

Comment Date: 5 p.m. ET 7/14/23.

Docket Numbers: ER23-2224-000.

Applicants: Southwest Power Pool, Inc.

Description: § 205(d) Rate Filing: 1976R13 FreeState Electric Cooperative, Inc. NITSA and NOA to be effective 9/1/2023.

Filed Date: 6/23/23.

Accession Number: 20230623-5090.

Comment Date: 5 p.m. ET 7/14/23.

Docket Numbers: ER23-2225-000.

Applicants: PJM Interconnection, L.L.C.

Description: § 205(d) Rate Filing: Original ISA, SA No. 6949; Queue No. NQ-173 to be effective 5/26/2023.

Filed Date: 6/23/23.

Accession Number: 20230623-5094

Comment Date: 5 p.m. ET 7/14/23.

Docket Numbers: ER23-2226-000.

Applicants: Southwest Power Pool, Inc.

Description: § 205(d) Rate Filing: 3620R5 Kansas City Board of Public Utilities NITSA NOA to be effective 9/1/2023.

Filed Date: 6/23/23.

Accession Number: 20230623-5098.

Comment Date: 5 p.m. ET 7/14/23.

Docket Numbers: ER23-2227-000.

Applicants: PJM Interconnection, L.L.C.

Description: § 205(d) Rate Filing: Original ISA, SA No. 6963; Queue No. AF2-150 to be effective 5/24/2023.

Filed Date: 6/23/23.

Accession Number: 20230623-5108.

Comment Date: 5 p.m. ET 7/14/23.

Docket Numbers: ER23-2228-000.

Applicants: Southwest Power Pool, Inc.

Description: § 205(d) Rate Filing: 1636R29 Kansas Electric Power Cooperative, Inc. NITSA and NOA to be effective 9/1/2023.

Filed Date: 6/23/23.

Accession Number: 20230623-5111.

Comment Date: 5 p.m. ET 7/14/23.

Docket Numbers: ER23-2229-000.

Applicants: San Diego Gas & Electric Company.

Description: § 205(d) Rate Filing: Service Agreement No. 67 to be effective 6/24/2023.

Filed Date: 6/23/23.

Accession Number: 20230623-5116.

Comment Date: 5 p.m. ET 7/14/23.

Docket Numbers: ER23-2230-000.

Applicants: Boulder Solar II, LLC.

Description: § 205(d) Rate Filing: Boulder SFA, Boulder Shared Facilities Agreement No. 1 to be effective 6/26/2023.

Filed Date: 6/23/23.

Accession Number: 20230623-5136.

Comment Date: 5 p.m. ET 7/14/23.

Docket Numbers: ER23-2231-000.

Applicants: Idaho Power Company.

Description: § 205(d) Rate Filing: IPC/PAC B2H Transmission Project Construction Funding Agreement to be effective 6/7/2023.

Filed Date: 6/23/23.

Accession Number: 20230623-5141.

Comment Date: 5 p.m. ET 7/14/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 23, 2023.
Debbie-Anne A. Reese,
Deputy Secretary.

[FR Doc. 2023-13836 Filed 6-28-23; 8:45 am]

BILLING CODE 6717-01-P